DEPARTMENT OF TRANSPORTATION

Federal Highway Administration

Environment Impact Statement: Jefferson and St. Clair Counties, AL

AGENCY: Federal Highway Administration (FHWA), DOT.

ACTION: Notice of Intent.

SUMMARY: The FHWA is issuing this notice to advise the public that an Environmental Impact Statement (EIS) will be prepared for a proposed highway project in Jefferson and St. Clair Counties, Alabama.

FOR FURTHER INFORMATION CONTACT: Catherine A. Batey, Acting Division Administrator, Federal Highway Administration, Alabama Division Office, 500 Eastern Blvd, Suite 200, Montgomery, AL 36117-2018, Telephone: (334) 223-7370.

SUPPLEMENTARY INFORMATION: The FHWA, in cooperation with the Alabama Department of Transportation, will prepare an EIS for Federal-aid Project STPAA-PE00(6). The proposed project would involve an extension of the Birmingham Northern Beltline from Interstate 59 in Trussville, Jefferson County, to Interstate 20 in the vicinity of Leeds, St. Clair County, Alabama, for a distance of about 10 miles.

The Birmingham Northern Beltline is a planned limited access facility intended to provide a circumferential expressway system around the Birmingham metropolitan area. The extension of the Beltline that is proposed under this project is considered necessary to provide a connecting link between Interstate 59 to Interstate 20.

Alternatives under consideration include (1) Taking no action; and (2) constructing a new multi-lane, limited access highway on new location. Incorporated into and studied with the various build alternatives within the corridor study limits, will be proposed interchange locations and designs at the crossing of U.S. 411 (S.R. 20) and the route terminus at Interstate 20.

Input for further defining the purpose and need for the proposed project and additional alternatives will be accomplished via the following. Letters describing the proposed action and soliciting comments will be sent to appropriate Federal, State, and local agencies, and to private organizations and citizens who have previously expressed or are known to have interest in this proposal. Agencies will also be invited by letter to attend a formal Scoping Meeting. A series of public meetings will be held within the corridor study area. In addition, a public hearing will be held upon approval of the Draft EIS. The Draft EIS will be available for public and agency review and comment prior to the public hearing. Public notice will be given of the time and place of the meetings and hearing. To ensure that the full range of issues related to this proposed action are addressed and all significant issues identified, comments and suggestions are invited from all interested parties. Comments or questions concerning this proposed action should be directed to the FHWA contact person identified in the address provided above.

(Catalog of Federal Domestic Assistance Program Number 20.205, Highway Planning and Construction. The regulations implementing Executive Order 12372 regarding intergovernmental consultation on Federal programs and activities apply to this program.)
Issued on July 27, 2006.
Bill Van Luchene,
Acting Division Administrator, Montgomery, AL.

[FR Doc. 06-6631 Filed 8-1-06; 8:45 am]

BILLING CODE 4910-22-M